DEPARTMENT OF HOMELAND SECURITY

Coast Guard

[Docket No. USCG-2010-0106]

Certificate of Alternative Compliance for the Offshore Supply Vessel BUMBLE BEE

AGENCY: Coast Guard, DHS.

ACTION: Notice.

SUMMARY: The Coast Guard announces that a Certificate of Alternative Compliance was issued for the offshore supply vessel BUMBLE BEE as required by 33 U.S.C. 1605(c) and 33 CFR 81.18.

DATES: The Certificate of Alternative Compliance was issued on February 3, 2010.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0106 in the “Keyword” box, and then clicking “Search.”

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

A Certificate of Alternative Compliance, as allowed under Title 33, Code of Federal Regulations, Parts 81 and 89, has been issued for the offshore supply vessel BUMBLE BEE, O.N. 1218416. Full compliance with 72 COLREGS and the Inland Rules Act would hinder the vessel's ability to maneuver within close proximity of offshore platforms. Due to the design of the vessel it would be difficult and impractical to build supporting structure that would put the side lights within 5.6′ from the greatest breadth of the vessel, as required by Annex I, paragraph 3(b) of the 72 COLREGS and Annex I, Section 84.05(b) of the Inland Rules Act. Compliance with the rule would cause the lights to be in a location which will be highly susceptible to damage from offshore platforms. Locating the sidelights 12′- 4¼″ inboard from the greatest breadth of the vessel on the pilot house will provide a shelter location for the lights and allow maneuvering within close proximity to offshore platforms. In addition the forward masthead light may be located on the top forward portion of the pilothouse 38′-2¼″ above the hull. Placing the forward masthead light at the height as required by Annex I, paragraph 2(a) of the 72 COLREGS would result in a masthead light location highly susceptible to damage when working in close proximity to offshore platforms. Furthermore the horizontal distance between the forward and aft masthead lights may be 18′-10 9/16″. Placing the aft masthead light at the horizontal distance from the forward masthead light as required by Annex I, paragraph 3(a) of the 72 COLREGS and Annex I, Section 84.05(a) of the Inland Rules Act would result in an aft masthead light location directly over the aft cargo deck where it would interfere with loading and unloading operations. Lastly the aft anchor light may be placed 25′-1 5/16″ off centerline to the starboard side of the vessel, just forward of the stern. Placing the aft anchor light directly over the aft cargo deck would interfere with loading and unloading operations.

The Certificate of Alternative Compliance allows for the placement of the sidelights to deviate from requirements set forth in Annex I, paragraph 3(b) of 72 COLREGS and Annex I, paragraph 84.05(b) of the Inland Rules Act. In addition the Certificate of Alternative Compliance allows for the vertical placement of the forward masthead light to deviate from requirements set forth in Annex I, paragraph 2(a) of 72 COLREGS. Furthermore the Certificate of Alternative Compliance allows for the horizontal separation of the forward and aft masthead lights to deviate from the requirements of Annex I, paragraph 3(a) of 72 COLREGS and Annex I, Section 84.05(a) of the Inland Rules Act. Lastly the Certificate of Alternative Compliance allows for the placement of the aft anchor light to deviate from the requirements of Rule 30(a)(ii) of 72 COLREGS and Rule 30(a)(ii) of the Inland Rules Act.

This notice is issued under authority of 33 U.S.C. 1605(c), and 33 CFR 81.18.

Dated: February 23, 2010.
J.W. Johnson,
Commander, U.S. Coast Guard, Chief, Inspections and Investigations Branch, By Direction of the Commander, Eighth Coast Guard District.

[FR Doc. 2010-5649 Filed 3-15-10; 8:45 am]

BILLING CODE 9110-04-P